DEPARTMENT OF TRANSPORTATION

Federal Aviation Administration

Third Meeting: RTCA Special Committee 230, Airborne Weather Detection Systems Committee

AGENCY: Federal Aviation Administration (FAA), U.S. Department of Transportation (DOT).

ACTION: Meeting Notice of RTCA Special Committee 230, Airborne Weather Detection Systems Committee.

SUMMARY: The FAA is issuing this notice to advise the public of the third meeting of the Airborne Weather Detection Systems Committee.

DATES: The meeting will be held March 17-19 2015 from 9:00 a.m.-5:00 p.m. on March 17-18 and 9:00 a.m.-3:00 p.m. on March 19.

ADDRESSES: The meeting will be held at RTCA, Inc., 1150 18th Street NW., Suite 910, Washington, DC 20036.

FOR FURTHER INFORMATION CONTACT: The RTCA Secretariat, 1150 18th Street NW., Suite 910, Washington, DC, 20036, or by telephone at (202) 833-9339, fax at (202) 833-9434, or Web site at http://www.rtca.org.

SUPPLEMENTARY INFORMATION: Pursuant to section 10(a)(2) of the Federal Advisory Committee Act (Pub. L. 92-463, 5 U.S.C., App.), notice is hereby given for a meeting of Special Committee 230. The agenda will include the following:

March 17

• Welcome/Introductions/Administrative Remarks

• Agenda Overview

• Meeting #2 Minutes approval

• Discussion of activities with EUROCAE WG-95

• Discussion of draft modification of SC-230 Terms of Reference to include modification to DO-213

• Review of General Requirements sections

• Review of PWS sections

March 18

• Review of Turbulence sections

• Review of Test Procedures sections

• Review of Test Procedures sections

• Review of Operational and Installed sections

March 19

• Review of Atmospheric Threat sections

• Discuss scope and content of DO-213 working group

• Action Item Review

• Other Actions

• FRAC Process Presentation

• Date and Place of Next Meetings

• Adjourn

Attendance is open to the interested public but limited to space availability. With the approval of the chairman, members of the public may present oral statements at the meeting. Persons wishing to present statements or obtain information should contact the person listed in the FOR FURTHER INFORMATION CONTACT section. Members of the public may present a written statement to the committee at any time.

Issued in Washington, DC, on February 10, 2015.
Mohannad Dawoud,
Management Analyst, NextGen, Program Oversight and Administration, Federal Aviation Administration.

[FR Doc. 2015-03057 Filed 2-12-15; 8:45 am]

BILLING CODE 4910-13-P